DEPARTMENT OF ENERGY

Federal Energy Regulatory Commission

[Docket Nos. CP00-40-000, -001, and -002]

Florida Gas Transmission Company; Notice of Availability of the Final Environmental Impact Statement for the Proposed FGT Phase V Expansion Project

July 13, 2001.

The staff of the Federal Energy Regulatory Commission (FERC or Commission) has prepared a final environmental impact statement (EIS) to assess the environmental impact associated with the construction of facilities proposed by Florida Gas Transmission Company (FGT) and referred to in this final EIS as the FGT Phase V Expansion Project in the above-referenced docket.

The final EIS was prepared to satisfy the requirements of the National Environmental Policy Act. The staff concludes that approval of the FGT Phase V Expansion Project, with appropriate mitigating measures as recommended, would have limited adverse environmental impact. The final EIS evaluates alternatives to the proposal, including system alternatives, route alternatives, and route variations.

The final EIS assesses the potential environmental effects of the construction and operation of the proposed facilities in Mississippi, Alabama, and Florida.

The purpose of the FGT Phase V Expansion Project is to transport up to 112,487 million cubic feet per day of natural gas on an annual basis to seven electric generation customers and others in Florida. Three of these customers, representing 94 percent of proposed transportation capacity, are in the process of developing and constructing additional gas-fired electric generating capacity to serve the growing market for electricity in Florida. FGT estimates the total cost of its Phase V Expansion Project at $452 million.

FGT proposes to construct and operate an interstate natural gas pipeline and associated aboveground facilities under Section 7(c) of the Natural Gas Act (NGA) and Title 18, CFR, Part 157. FGT proposes to expand its existing 5,225-mile-long natural gas pipeline transmission system by the construction of approximately 165.8 miles of pipeline loops and laterals, 132,615 horsepower of additional compression at nine existing and three new compressor stations, and other associated auxiliary facilities in various locations in Mississippi, Alabama, and Florida.

In addition, FGT proposes to acquire from Koch Gateway Pipeline Company (KGPC) an interest in KGPC's Mobile Bay Lateral that would give FGT the rights to about 50 percent of the available capacity on that system. Concurrent with FGT's filing, KGPC filed an application in Docket No. CP00-39-000 for approval to abandon by sale to FGT the interest in its Mobile Bay Lateral. However, the environmental analysis of this action qualifies as a categorical exclusion and is not included in the EIS.

The final EIS has been placed in the public files of the FERC and is available for public inspection at:

Federal Energy Regulatory Commission, Public Reference and Files Maintenance Branch, 888 First Street, NE., Room 2A, Washington, DC 20426, (202) 208-1371.

Copies of the final EIS have been mailed to Federal, state and local agencies, public interest groups, individuals who have requested the final EIS, newspapers, and parties to this proceeding.

In accordance with the Council on Environmental Quality's (CEQ) regulations implementing the National Environmental Policy Act, no agency decision on a proposed action may be made until 30 days after the U.S. Environmental Protection Agency publishes a notice of availability of an final EIS. However, the CEQ regulations provide an exception to this rule when an agency decision is subject to a formal internal appeal process which allows other agencies or the public to make their views known. In such cases, the agency decision may be made at the same time the notice of the final EIS is published, allowing both periods to run concurrently. The Commission decision for this proposed action is subject to a 30-day rehearing period.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-18025 Filed 7-18-01; 8:45 am]

BILLING CODE 6717-01-P